DEPARTMENT OF COMMERCE

International Trade Administration

[C-533-825]

Polyethylene Terephthalate Film, Sheet, and Strip (PET Film) From India: Final Results of Countervailing Duty Administrative Review; 2020; Correction

AGENCY: Enforcement and Compliance, International Trade Administration, Department of Commerce.

ACTION: Notice; correction.

SUMMARY: The U.S. Department of Commerce (Commerce) published a notice in the Federal Register of December 12, 2022, in which Commerce announced the final results of the 2020 administrative review of the countervailing duty (CVD) order on polyethylene terephthalate film, sheet, and strip (PET film) from India. This notice contained an incorrect company name for one producer or exporter in the list of subsidy rates.

FOR FURTHER INFORMATION CONTACT: Richard Roberts, AD/CVD Operations, Office I, Enforcement and Compliance, International Trade Administration, U.S. Department of Commerce, 1401 Constitution Avenue NW, Washington, DC 20230; telephone: (202) 482-3464.

SUPPLEMENTARY INFORMATION:

Correction

In the Federal Register of December 12, 2022, in FR Doc 2022-26875, on page 76025, in the second column, we are correcting the listed company name “Polyplex USA” in the table of the “Final Results of Administrative Review” to state the correct company name “Polyplex Corporation Ltd.”

Background

On December 12, 2022, Commerce published in the Federal Register the final results of the 2020 administrative review of the CVD order on PET film from India.¹ Under the “Final Results of Administrative Review” section, Commerce incorrectly stated the company name “Polyplex USA.” The company “Polyplex USA” should instead state the correct company name “Polyplex Corporation Ltd.”

¹ See Polyethylene Terephthalate Film, Sheet, and Strip (PET film) from India: Final Results of Countervailing Duty Administrative Review; 2020, 87 FR 76024 (December 12, 2022).

Notification to Interested Parties

This notice is issued and published in accordance with sections 751(a)(l), 751(a)(2)(B), and 777(i) of the Tariff Act of 1930, as amended.

Dated: December 27, 2022.
Lisa W. Wang,
Assistant Secretary for Enforcement and Compliance.

[FR Doc. 2022-28476 Filed 12-30-22; 8:45 am]

BILLING CODE 3510-DS-P